DEPARTMENT OF THE INTERIOR

National Park Service

[NPS-WASO-NAGPRA-22254; PPWOCRADN0-PCU00RP14.R50000]

Notice of Inventory Completion: U.S. Department of Agriculture, Forest Service, Bighorn National Forest, Sheridan, WY

AGENCY: National Park Service, Interior.

ACTION: Notice.

SUMMARY: The U.S. Department of Agriculture, Forest Service, Bighorn National Forest (BHNF), Sheridan, WY has completed an inventory of human remains and associated funerary objects, in consultation with the appropriate Indian tribes or Native Hawaiian organizations, and has determined that there is no cultural affiliation between the human remains and associated funerary object and any present-day Indian tribes or Native Hawaiian organizations. Lineal descendants or representatives of any Indian tribe or Native Hawaiian organization not identified in this notice that wish to request transfer of control of these human remains and associated funerary object should submit a written request to the BHNF. If no additional requestors come forward, transfer of control of the human remains and associated funerary object to the lineal descendants, Indian tribes, or Native Hawaiian organizations stated in this notice may proceed.

DATES: Lineal descendants or representatives of any Indian tribe or Native Hawaiian organization not identified in this notice that wish to request transfer of control of these human remains and associated funerary object should submit a written request with information in support of the request to the BHNF at the address below by January 3, 2017.

ADDRESSES: Mr. William Bass, Forest Supervisor, Bighorn National Forest, 2013 Eastside Second Street, Sheridan, WY 82801, telephone (307) 674-2600.

SUPPLEMENTARY INFORMATION: Notice is here given in accordance with the Native American Graves Protection and Repatriation Act (NAGPRA), 25 U.S.C. 3003, of the completion of an inventory of human remains and an associated funerary object under the control of the Bighorn National Forest, Sheridan, WY. The human remains and associated funerary object were removed from Big Horn County, WY.

This notice is published as part of the National Park Service's administrative responsibilities under NAGPRA, 25 U.S.C. 3003(d)(3) and 43 CFR 10.11(d). The determinations in this notice are the sole responsibility of the Federal agency that has control of the Native American human remains. The National Park Service is not responsible for the determinations in this notice.

Consultation

On Thursday, July 28, 2016, at the Bighorn National Forest Supervisor's Office in Sheridan, WY a detailed assessment of the human remains and associated funerary object was made by BHNF professional staff in consultation with representatives of the Arapaho Tribe of the Wind River Reservation, Wyoming; Cheyenne River Sioux Tribe of the Cheyenne River Reservation, South Dakota; Chippewa Cree Indians of the Rocky Boy's Reservation, Montana (previously listed as the Chippewa-Cree Indians of the Rocky Boy's Reservation, Montana); Northern Cheyenne Tribe of the Northern Cheyenne Indian Reservation, Montana; and the Three Affiliated Tribes of the Fort Berthold Reservation, North Dakota. The Assiniboine and Sioux Tribes of the Fort Peck Indian Reservation, Montana; the Crow Tribe of Montana; and the Eastern Shoshone Tribe of the Wind River Reservation, Wyoming (previously listed as the Shoshone Tribe of the Wind River Reservation, Wyoming), which BHNF had invited to consult, did not participate. The above Indian tribes are hereinafter referred to as “The Invited and Consulted Tribes.”

History and Description of the Remains

In the 1920s, a rancher found and removed partially mummified human remains representing, at minimum, one individual from the Hudson Falls Creek area of Bighorn National Forest in Big Horn County, WY. In 1975, the rancher's family transferred the human remains to the University of Wyoming, for curation at the University of Wyoming Human Remains Repository (accession number HR049). In 1994, an osteologist from the Smithsonian Institution determined that the human remains represent a Native American child of indeterminate sex. No known individual was identified. The one associated funerary object is a brass wire shell earring.

Determinations Made by the Bighorn National Forest

Officials of the BHNF have determined that:

• Pursuant to 25 U.S.C. 3001(9), the human remains described in the notice are Native American based on archeological evidence.

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary object and any present-day Indian tribe.

• According to final judgments of the Indian Claims Commission, the lands from which the Native American human remains and associated funerary object were removed is the aboriginal land of the Arapaho Tribe of the Wind River Reservation, Wyoming; Assiniboine and Sioux Tribes of the Fort Peck Indian Reservation, Montana; Cheyenne River Sioux Tribe of the Cheyenne River Reservation, South Dakota; the Chippewa Cree Indians of the Rocky Boy's Reservation, Montana (previously listed as the Chippewa-Cree Indians of the Rocky Boy's Reservation, Montana); Crow Tribe of Montana; the Eastern Shoshone Tribe of the Wind River Reservation, Wyoming (previously listed as the Shoshone Tribe of the Wind River Reservation, Wyoming); the Northern Cheyenne Tribe of the Northern Cheyenne Indian Reservation, Montana; and the Three Affiliated Tribes of the Fort Berthold Reservation, North Dakota (hereinafter referred to as “The Aboriginal Land Tribes”).

• Pursuant to 43 CFR 10.11(c)(1), the disposition of the human remains and associated funerary object may be to The Aboriginal Land Tribes.

Additional Requestors and Disposition

Representatives of any Indian tribe or Native Hawaiian organization not identified in this notice that wish to request transfer of control of these human remains should contact Mr. William Bass, Forest Supervisor, Bighorn National Forest, 2013 Eastside Second Street, Sheridan, WY 82801, telephone 307-674-2600, before January 3, 2017. After that date, if no additional requestors have come forward, transfer of control of the human remains and associated funerary object to The Aboriginal Land Tribes may proceed.

The BHNF is responsible for notifying The Invited and Consulted Tribes that this notice has been published.

Dated: November 15, 2016.
Melanie O'Brien,
Manager, National NAGPRA Program.

[FR Doc. 2016-28957 Filed 12-1-16; 8:45 am]

BILLING CODE 4312-52-P